DEPARTMENT OF THE INTERIOR

Bureau of Land Management

[19X.LLAZP02000.L14400000.EQ0000; AZA-036609]

Notice of Realty Action: Recreation and Public Purposes Act Classification; Arizona

AGENCY: Bureau of Land Management, Interior.

ACTION: Notice of realty action.

SUMMARY: The Bureau of Land Management (BLM) has examined certain public lands in Pinal County, Arizona, and has found them suitable for classification for lease or conveyance to the Pinal County Board of Supervisors under the provisions of the Recreation and Public Purpose Act (R&PP), as amended, the Taylor Grazing Act, and Executive Order No. 6910. The lands will be used as a regional park. The lands consist of approximately 498.04 acres, must conform to the official plat of survey, and are legally described below.

DATES: Submit written comments regarding this proposed classification on or before January 28, 2019. In the absence of any adverse comments, the classification will become effective on February 11, 2019.

ADDRESSES: Comments may be mailed or hand delivered to Realty Specialist JoAnn Goodlow at the BLM Lower Sonoran Field Office, 21605 North 7th Avenue, Phoenix, Arizona 85027. Comments may also be faxed to 623-580-5580. The BLM will not consider comments received via telephone calls or email. Detailed information including, but not limited to, a proposed development and management plan and documentation relating to compliance with applicable environmental and cultural resource laws, is available for review during business hours, 7:45 a.m. to 4 p.m. Mountain Time, Monday through Friday, except during Federal holidays, at this same street address.

FOR FURTHER INFORMATION CONTACT: JoAnn Goodlow, Realty Specialist, telephone: 623-580-5548, email: jgoodlow@blm.gov. Persons who use a telecommunications device for the deaf may call the Federal Relay Service (FRS) at 1-800-877-8339 to leave a message or question for the above individual. The FRS is available 24 hours a day, 7 days a week. You will receive a reply during normal business hours.

SUPPLEMENTARY INFORMATION: The Pinal County Board of Supervisors has not applied for more than the 6,400-acre limitation for recreation uses in a year (or 640 acres if a nonprofit corporation or association), nor more than 640 acres for each of the programs involving public resources other than recreation.

The Pinal County Board of Supervisors has submitted a statement in compliance with the regulations at 43 CFR 2741.4(b). The Pinal County Board of Supervisors proposes to use the land as a regional park. The park would provide recreational opportunities such as hiking, mountain biking, rock climbing, tent camping, an equestrian area, and picnic locations.

The lands examined and identified as suitable for lease or conveyance under the R&PP Act are legally described as:

Gila and Salt River Meridian, Arizona

T. 1 S., R. 10 E.,

Section 6, lots 6 and 7, and E½SW¼;

Section 7, lots 1 and 2, NE¼ and E½NW¼.

The areas described aggregate 498.04 acres.

The lands are not needed for any Federal purposes.

Lease or conveyance of the lands for recreational or public purposes use is consistent with the BLM Lower Sonoran Resource Management Plan, dated September 2012, and would be in the national interest.

All interested parties will receive a copy of this notice once it is published in the Federal Register. A copy of the Federal Register notice with information about this proposed realty action will be published in the newspaper of local circulation once a week for 3 consecutive weeks. Under the regulations at 43 CFR subpart 2741 addressing requirements and procedures for conveyances under the R&PP Act, the BLM is not required to hold a public meeting regarding this proposal.

Upon publication of this notice in the Federal Register, the lands will be segregated from all other forms of appropriation under the public land laws, including locations under the mining laws, except for lease or conveyance under the R&PP Act and leasing under the mineral leasing laws.

The lease or conveyance of the land, when issued, will be subject to the following terms, conditions, and reservations:

1. A right-of-way thereon for ditches and canals constructed by the authority of the United States Act of August 30, 1890 (26 Stat. 391; 43 U.S.C. 945).

2. Provisions of the R&PP Act and all applicable regulations of the Secretary of the Interior.

3. All mineral deposits in the land so patented, and the right to prospect for, mine, and remove such deposits from the same under applicable law and regulations as established by the Secretary of the Interior are reserved to the United States, together with all necessary access and exit rights.

4. Lease or conveyance of the parcel is subject to valid existing rights.

5. An appropriate indemnification clause protecting the United States from claims arising out of the lessee's/patentee's use, occupancy, or occupations on the leased/patented lands.

6. Any other reservations that the authorized officer determines appropriate to ensure public access and proper management of Federal lands and interests therein.

Classification Comments: Interested persons may submit comments involving the suitability of the land for development of a regional park. Comments on the classification are restricted to whether the land is physically suited for the proposal, whether the use will maximize the future use or uses of the land, whether the use is consistent with local planning and zoning, or if the use is consistent with State and Federal programs.

Application Comments: Interested persons may submit comments regarding the specific use proposed in the application and plan of development and management, whether the BLM followed proper administrative procedures in reaching the decision, or any other factor not directly related to the suitability of the lands for a regional park.

Any adverse comments will be reviewed by the BLM State Director or other authorized official of the Department of the Interior, who may sustain, vacate, or modify this realty action. The lands will not be offered for conveyance until after the classification becomes effective.

Before including your address, phone number, email address, or other personal identifying information in any comment, be aware that your entire comment—including your personal identifying information—may be made publicly available at any time. While you can ask us in your comment to withhold your personal identifying information from public review, we cannot guarantee that we will be able to do so.

Authority: 43 CFR 2741.5.

Edward Kender,
Field Manager, BLM Lower Sonoran Field Office.

[FR Doc. 2018-27033 Filed 12-12-18; 8:45 am]

BILLING CODE 4310-32-P